DEPARTMENT OF COMMERCE

International Trade Administration

[C-533-888, C-570-105]

Carbon and Alloy Steel Threaded Rod From India and the People's Republic of China: Initiation of Countervailing Duty Investigations

AGENCY: Enforcement and Compliance, International Trade Administration, Department of Commerce.

DATES: Applicable March 13, 2019.

FOR FURTHER INFORMATION CONTACT: Ryan Mullen at (202) 482-5260 (India) and Thomas Schauer at (202) 482-0410 (People's Republic of China (China)), AD/CVD Operations, Enforcement and Compliance, International Trade Administration, U.S. Department of Commerce, 1401 Constitution Avenue NW, Washington, DC 20230.

SUPPLEMENTARY INFORMATION:

The Petitions

On February 21, 2019, the U.S. Department of Commerce (Commerce) received countervailing duty (CVD) petitions concerning imports of carbon and alloy steel threaded rod (steel threaded rod) from India and China, filed in proper form on behalf of Vulcan Threaded Products Inc. (the petitioner), a domestic producer of steel threaded rod.¹ The CVD Petitions were accompanied by antidumping duty (AD) petitions concerning imports of steel threaded rod from India, China, Taiwan, and Thailand.

¹ See the petitioner's letter, “Petitions for the Imposition of Antidumping and Countervailing Duties: Carbon and Alloy Steel Threaded Rod from the People's Republic of China, India, Taiwan, and Thailand,” dated February 21, 2019 (the Petitions). See also the petitioner's letter, “Petitions for the Imposition of Antidumping and Countervailing Duties: Carbon and Alloy Steel Threaded Rod from the People's Republic of China, India, Taiwan, and Thailand: Clarification of Petitioner Name,” dated March 1, 2019.

During the period February 25 and 26, 2019, Commerce requested supplemental information pertaining to certain aspects of the CVD Petitions in separate supplemental questionnaires.² The petitioner filed responses to the supplemental questionnaires between February 28 and March 1, 2019.³

² See Commerce's Letter, “Petition for the Imposition of Countervailing Duties on Imports of Carbon and Alloy Steel Threaded Rod from the People's Republic of China: Supplemental Questions,” dated February 25, 2019, and Letters, “Petitions for the Imposition of Antidumping and Countervailing Duties on Imports of Carbon and Alloy Steel Threaded Rod from the People's Republic of China, India, Taiwan, and Thailand: Supplemental Questions,” (General Issues Supplemental), “Petition for the Imposition of Countervailing Duties on Imports of Carbon and Alloy Steel Threaded Rod from India: Supplemental Questions,” “Petition for the Imposition of Antidumping Duties on Imports of Carbon and Alloy Steel Threaded Rod from the People's Republic of China: Supplemental Questions,” “Petition for the Imposition of Antidumping Duties on Imports of Carbon and Alloy Steel Threaded Rod from India: Supplemental Questions,” “Petition for the Imposition of Antidumping Duties on Imports of Carbon and Alloy Steel Threaded Rod from Taiwan: Supplemental Questions,” and “Petition for the Imposition of Antidumping Duties on Imports of Carbon and Alloy Steel Threaded Rod from Thailand: Supplemental Questions,” dated February 26, 2019.

³ See the petitioner's Letters, “Carbon and Alloy Steel Threaded Rod from the People's Republic of China, India, Taiwan, and Thailand: Response to General Issues Questionnaire,” (General Issues Supplement) “Carbon and Alloy Steel Threaded Rod from India: Response to Questionnaire on Countervailing Duty Petition,” “Carbon and Alloy Steel Threaded Rod from China: Response to Questionnaire on Antidumping Petition,” “Carbon and Alloy Steel Threaded Rod from India: Response to Questionnaire on Antidumping Petition,” “Carbon and Alloy Steel Threaded Rod from Taiwan: Response to Questionnaire on Antidumping Petition,” and “Petition for the Imposition of Antidumping Duties on Imports of Carbon and Alloy Steel Threaded Rod from Thailand: Supplemental Questions,” dated February 28, 2019, and Letter, “Carbon and Alloy Steel Threaded Rod from China: Response to Questionnaire on Countervailing Duty Petition,” dated March 1, 2019.

In accordance with section 702(b)(1) of the Tariff Act of 1930, as amended (the Act), the petitioner alleges that the Governments of China and India (GOC, and GOI, respectively) are providing countervailable subsidies, within the meaning of sections 701 and 771(5) of the Act, to producers of steel threaded rod in China and India and that imports of such products are materially injuring, or threatening material injury to, the domestic steel threaded rod industry in the United States. Consistent with section 702(b)(1) of the Act and 19 CFR 351.202(b), for those alleged programs on which we are initiating CVD investigations, the CVD Petitions are accompanied by information reasonably available to the petitioner supporting their allegations.

Commerce finds that the petitioner filed the CVD Petitions on behalf of the domestic industry, because the petitioner is an interested party, as defined in section 771(9)(E) of the Act. Commerce also finds that the petitioner demonstrated sufficient industry support necessary for the initiation of the requested CVD investigations.⁴

⁴ See the “Determination of Industry Support for the Petition” section, infra.

Period of Investigations

Because the CVD Petitions were filed on February 21, 2019, the period of investigation is January 1, 2018, through December 31, 2018.

Scope of the Investigations

The product covered by these investigations is steel threaded rod from China and India. For a full description of the scope of these investigations, see the Appendix to this notice.

Comments on the Scope of the Investigations

During our review of the CVD Petitions, Commerce issued questions to, and received responses from, the petitioner pertaining to the proposed scope to ensure that the scope language in the CVD Petitions would be an accurate reflection of the products for which the domestic industry is seeking relief.⁵

⁵ See General Issues Supplemental at 3-4; see also General Issues Supplement at 3-6.

As discussed in the Preamble to Commerce's regulations, we are setting aside a period for interested parties to raise issues regarding product coverage (scope).⁶ Commerce will consider all comments received from interested parties and, if necessary, will consult with interested parties prior to the issuance of the preliminary determination. If scope comments include factual information,⁷ all such factual information should be limited to public information. To facilitate preparation of its questionnaires, Commerce requests that all interested parties submit such comments by 5:00 p.m. Eastern Time (ET) on April 2, 2019, which is 20 calendar days from the signature date of this notice. Any rebuttal comments, which may include factual information, must be filed by 5:00 p.m. ET on April 12, 2019, which is 10 calendar days from the initial comments deadline.⁸

⁶ See Antidumping Duties; Countervailing Duties, Final Rule, 62 FR 27296, 27323 (May 19, 1997) (Preamble).

⁷ See 19 CFR 351.102(b)(21) (defining “factual information”).

⁸ See 19 CFR 351.303(b).

Commerce requests that any factual information parties consider relevant to the scope of the investigations be submitted during this period. However, if a party subsequently finds that additional factual information pertaining to the scope of the investigations may be relevant, the party may contact Commerce and request permission to submit the additional information. All such submissions must be filed on the records of the concurrent AD and CVD investigations.

Filing Requirements

All submissions to Commerce must be filed electronically using Enforcement and Compliance's Antidumping Duty and Countervailing Duty Centralized Electronic Service System (ACCESS).⁹ An electronically filed document must be received successfully in its entirety by the time and date it is due. Documents exempted from the electronic submission requirements must be filed manually (i.e., in paper form) with Enforcement and Compliance's APO/Dockets Unit, Room 18022, U.S. Department of Commerce, 1401 Constitution Avenue NW, Washington, DC 20230, and stamped with the date and time of receipt by the applicable deadlines.

⁹ See Antidumping and Countervailing Duty Proceedings: Electronic Filing Procedures; Administrative Protective Order Procedures, 76 FR 39263 (July 6, 2011). See also Enforcement and Compliance: Change of Electronic Filing System Name, 79 FR 69046 (November 20, 2014) for details of Commerce's electronic filing requirements, which went into effect on August 5, 2011. Information on help using ACCESS can be found at https://access.trade.gov/help.aspx, and a handbook can be found at https://access.trade.gov/help/Handbook%20on%20Electronic%20Filling%20Procedures.pdf.

Consultations

Pursuant to sections 702(b)(4)(A)(i) and (ii) of the Act, Commerce notified representatives of the GOC and GOI of the receipt of the CVD Petitions and provided them the opportunity for consultations with respect to the CVD Petitions.¹⁰ Consultations were held with the GOI on March 11, 2019.¹¹ The GOC did not request consultations.

¹⁰ See Commerce's Letters, “Countervailing Duty Petition on Carbon and Alloy Steel Threaded Rod from the People's Republic of China,” dated February 22, 2019, and “Countervailing Duty Petition on Carbon and Alloy Steel Threaded Rod from India: Invitation for Consultations to Discuss the Countervailing Duty Petition,” dated March 1, 2019.

¹¹ See Memorandum to File, “Consultations with Government Officials from the Government of India on the Countervailing Duty Petition Regarding Steel Threaded Rod from India,” dated March 11, 2019.

Determination of Industry Support for the Petitions

Section 702(b)(1) of the Act requires that a petition be filed on behalf of the domestic industry. Section 702(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, Commerce shall: (i) Poll the industry or rely on other information in order to determine if there is support for the petition, as required by subparagraph (A); or (ii) determine industry support using a statistically valid sampling method to poll the “industry.”

Section 771(4)(A) of the Act defines the “industry” as the producers, as a whole, of a domestic like product. Thus, to determine whether a petition has the requisite industry support, the statute directs Commerce to look to producers and workers who produce the domestic like product. The International Trade Commission (ITC), which is responsible for determining whether “the domestic industry” has been injured, must also determine what constitutes a domestic like product in order to define the industry. While both Commerce and the ITC must apply the same statutory definition regarding the domestic like product,¹² they do so for different purposes and pursuant to a separate and distinct authority. In addition, Commerce's determination is subject to limitations of time and information. Although this may result in different definitions of the like product, such differences do not render the decision of either agency contrary to law.¹³

¹² See section 771(10) of the Act.

¹³ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the investigations.¹⁴ Based on our analysis of the information submitted on the record, we have determined that steel threaded rod, as defined in the scope, constitutes a single domestic like product, and we have analyzed industry support in terms of that domestic like product.¹⁵

¹⁴ See Volume I of the Petitions, at 8-12.

¹⁵ For a discussion of the domestic like product analysis as applied to these cases and information regarding industry support, see Countervailing Duty Investigation Initiation Checklist: Carbon and Alloy Steel Threaded Rod from the People's Republic of China (China CVD Initiation Checklist), at Attachment II, Analysis of Industry Support for the Antidumping and Countervailing Duty Petition Covering Carbon and Alloy Steel Threaded Rod from the People's Republic of China, India, Taiwan, and Thailand (Attachment II); see also Countervailing Duty Investigation Initiation Checklist: Carbon and Alloy Steel Threaded Rod from India (India CVD Initiation Checklist), at Attachment II. These checklists are dated concurrently with this notice and on file electronically via ACCESS. Access to documents filed via ACCESS is also available in the Central Records Unit, Room B8024 of the main Department of Commerce building.

In determining whether the petitioner has standing under section 702(c)(4)(A) of the Act, we considered the industry support data contained in the CVD Petitions with reference to the domestic like product as defined in the “Scope of the Investigations,” in the Appendix to this notice. To establish industry support, the petitioner provided its own production of the domestic like product in 2018, as well as the 2018 production of Bay Standard Manufacturing Inc. (Bay Standard), a U.S. producer of steel threaded rod that supports the CVD Petitions.¹⁶ The petitioner compared the production of the supporters of the CVD Petitions to the estimated total production of the domestic like product for the entire domestic industry.¹⁷ We relied on data provided by the petitioner and Bay Standard for purposes of measuring industry support.¹⁸

¹⁶ See Volume I of the Petitions, at Exhibit I-2; see also Letter from Bay Standard, “Carbon and Alloy Steel Threaded Rod from the People's Republic of China, India, Taiwan, and Thailand: Support for the Petitions,” dated February 25, 2019 (Letter of Support), at Attachment I.

¹⁷ See General Issues Supplement, at 6 and Exhibits 3 and 5.

¹⁸ Id. For further discussion, see China CVD Initiation Checklist, at Attachment II; and India CVD Initiation Checklist, at Attachment II.

Our review of the data provided in the CVD Petitions, the General Issues Supplement, the Letter of Support, and other information readily available to Commerce indicates that the petitioners have established industry support for the CVD Petitions.¹⁹ First, the CVD Petitions established support from domestic producers (or workers) accounting for more than 50 percent of the total production of the domestic like product and, as such, Commerce is not required to take further action in order to evaluate industry support (e.g., polling).²⁰ Second, the domestic producers (or workers) have met the statutory criteria for industry support under section 702(c)(4)(A)(i) of the Act because the domestic producers (or workers) who support the Petitions account for at least 25 percent of the total production of the domestic like product.²¹ Finally, the domestic producers (or workers) have met the statutory criteria for industry support under section 702(c)(4)(A)(ii) of the Act because the domestic producers (or workers) who support the Petitions account for more than 50 percent of the production of the domestic like product produced by that portion of the industry expressing support for, or opposition to, the CVD Petitions.²² Accordingly, Commerce determines that the CVD Petitions were filed on behalf of the domestic industry, within the meaning of section 702(b)(1) of the Act.

¹⁹ Id.

²⁰ Id.; see also section 702(c)(4)(D) of the Act.

²¹ See China CVD Initiation Checklist, at Attachment II; and India CVD Initiation Checklist, at Attachment II.

²² Id.

Commerce finds that the petitioner filed the CVD Petitions on behalf of the domestic industry, because it is an interested party, as defined in section 771(9)(C) of the Act, and it has demonstrated sufficient industry support with respect to the CVD investigations that it is requesting that Commerce initiate.²³

²³ Id.

Injury Test

Because China and India are “Subsidies Agreement Countries” within the meaning of section 701(b) of the Act, section 701(a)(2) of the Act applies to these investigations. Accordingly, the ITC must determine whether imports of the subject merchandise from China and/or India materially injure, or threaten material injury to, a U.S. industry.

Allegations and Evidence of Material Injury and Causation

The petitioner alleges that imports of the subject merchandise are benefitting from countervailable subsidies and that such imports are causing, or threaten to cause, material injury to the U.S. industry producing the domestic like product. In addition, the petitioner alleges that subject imports exceed the negligibility threshold provided for under section 771(24)(A) of the Act.²⁴ In CVD petitions, section 771(24)(B) of the Act provides that imports of subject merchandise from developing and least developed countries must exceed the negligibility threshold of four percent. The petitioner also demonstrates that subject imports from India, which has been designated as a least developed country under section 771(36)(B) of the Act, exceed the negligibility threshold of four percent.²⁵

²⁴ See Volume I of the Petitions, at 18 and Exhibit I-14.

²⁵ Id.

The petitioner contends that the industry's injured condition is illustrated by a significant and increasing volume of subject imports; reduced market share; underselling and price suppression; decline in the domestic industry's capacity utilization; the domestic industry's lagging production and shipments; decline in the domestic industry's financial performance; and lost sales and revenues.²⁶ We have assessed the allegations and supporting evidence regarding material injury, threat of material injury, causation, as well as cumulation, and we have determined that these allegations are properly supported by adequate evidence, and meet the statutory requirements for initiation.²⁷

²⁶ Id. at 15-35 and Exhibits I-3, I-4, I-10, I-11, I-13, I-14 and I-16 through I-20.

²⁷ See China CVD Initiation Checklist, at Attachment III, Analysis of Allegations and Evidence of Material Injury and Causation for the Antidumping and Countervailing Duty Petitions Covering Carbon and Alloy Steel Threaded Rod from the People's Republic of China, India, Taiwan, and Thailand (Attachment III); and India CVD Initiation Checklist, at Attachment III.

Initiation of CVD Investigations

Based on the examination of the CVD Petitions, we find that they meet the requirements of section 702 of the Act. Therefore, we are initiating CVD investigations to determine whether imports of steel threaded rod from China and India benefit from countervailable subsidies conferred by the GOC and GOI. In accordance with section 703(b)(1) of the Act and 19 CFR 351.205(b)(1), unless postponed, we will make our preliminary determination no later than 65 days after the date of this initiation.

China

Based on our review of the CVD Petition, we find that there is sufficient information to initiate a CVD investigation on 19 of the 21 alleged programs. For a full discussion of the basis for our decision to initiate on each program, see China CVD Initiation Checklist. A public version of the initiation checklist for this investigation is available on ACCESS.

India

Based on our review of the CVD Petition, we find that there is sufficient information to initiate a CVD investigation on 19 of the 52 alleged programs. For a full discussion of the basis for our decision to initiate on each program, see India CVD Initiation Checklist. A public version of the initiation checklist for this investigation is available on ACCESS.

Respondent Selection

In the CVD Petitions, the petitioners named 446 companies in China and 32 companies in India as producers/exporters of steel threaded rod.²⁸ Commerce intends to follow its standard practice in CVD investigations and calculate company-specific subsidy rates in these investigations. In the event Commerce determines that the number of companies is large and it cannot individually examine each company based upon Commerce's resources, where appropriate, Commerce intends to select mandatory respondents based on U.S. Customs and Border Protection (CBP) data for U.S. imports of steel threaded rod from China and India during the POI under the appropriate Harmonized Tariff Schedule of the United States numbers listed in the “Scope of the Investigation,” in the Appendix.

²⁸ See Volume I of the Petitions at Exhibit I-13.

On March 11, 2019, Commerce released CBP data under Administrative Protective Order (APO) to all parties with access to information protected by APO and indicated that interested parties wishing to comment regarding the CBP data and respondent selection must do so within three business days of the publication date of the notice of initiation of these CVD investigations.²⁹ Commerce will not accept rebuttal comments regarding the CBP data or respondent selection.

²⁹ See Memorandum, “Carbon and Alloy Steel Threaded Rod from the People's Republic of China (China) Countervailing Duty Petition: Release of Customs Data from U.S. Customs and Border Protection” dated March 11, 2019, and Memorandum, “Carbon and Alloy Steel Threaded Rod from India Countervailing Duty Petition: Release of Customs Data from U.S. Customs and Border Protection,” dated March 11, 2019.

Interested parties must submit applications for disclosure under APO in accordance with 19 CFR 351.305(b). Instructions for filing such applications may be found on the Commerce's website at http://enforcement.trade.gov/apo.

Comments must be filed electronically using ACCESS. An electronically filed document must be received successfully, in its entirety, by ACCESS no later than 5:00 p.m. ET on the date noted above. We intend to finalize our decisions regarding respondent selection within 20 days of publication of this notice.

Distribution of Copies of the Petitions

In accordance with section 702(b)(4)(A)(i) of the Act and 19 CFR 351.202(f), copies of the public version of the Petitions have been provided to the GOC via ACCESS. To the extent practicable, we will attempt to provide a copy of the public version of the Petitions to each exporter named in the Petitions, as provided under 19 CFR 351.203(c)(2).

ITC Notification

We will notify the ITC of our initiation, as required by section 702(d) of the Act.

Preliminary Determinations by the ITC

The ITC will preliminarily determine, within 45 days after the date on which the CVD Petitions were filed, whether there is a reasonable indication that imports of steel threaded rod from China and India are materially injuring, or threatening material injury to, a U.S. industry.³⁰ A negative ITC determination in any country will result in the investigations being terminated with respect to that country.³¹ Otherwise, these investigations will proceed according to statutory and regulatory time limits.

³⁰ See section 703(a)(2) of the Act.

³¹ See section 703(a)(1) of the Act.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). 19 CFR 351.301(b) requires any party, when submitting factual information, to specify under which subsection of 19 CFR 351.102(b)(21) the information is being submitted ³² and, if the information is submitted to rebut, clarify, or correct factual information already on the record, to provide an explanation identifying the information already on the record that the factual information seeks to rebut, clarify, or correct.³³ Time limits for the submission of factual information are addressed in 19 CFR 351.301, which provides specific time limits based on the type of factual information being submitted. Interested parties should review the regulations prior to submitting factual information in these investigations.

³² See 19 CFR 351.301(b).

³³ See 19 CFR 351.301(b)(2).

Extensions of Time Limits

Parties may request an extension of time limits before the expiration of a time limit established under 19 CFR 351.301, or as otherwise specified by the Secretary. In general, an extension request will be considered untimely if it is filed after the expiration of the time limit established under 19 CFR 351.301. For submissions that are due from multiple parties simultaneously, an extension request will be considered untimely if it is filed after 10:00 a.m. ET on the due date. Under certain circumstances, we may elect to specify a different time limit by which extension requests will be considered untimely for submissions which are due from multiple parties simultaneously. In such a case, we will inform parties in the letter or memorandum setting forth the deadline (including a specified time) by which extension requests must be filed to be considered timely. An extension request must be made in a separate, stand-alone submission; under limited circumstances we will grant untimely-filed requests for the extension of time limits. Parties should review Extension of Time Limits; Final Rule, 78 FR 57790 (September 20, 2013), available at http://www.gpo.gov/fdsys/pkg/FR-2013-09-20/html/2013-22853.htm, prior to submitting factual information in these investigations.

Certification Requirements

Any party submitting factual information in an AD or CVD proceeding must certify to the accuracy and completeness of that information.³⁴ Parties must use the certification formats provided in 19 CFR 351.303(g).³⁵ Commerce intends to reject factual submissions if the submitting party does not comply with the applicable certification requirements.

³⁴ See section 782(b) of the Act.

³⁵ See Certification of Factual Information to Import Administration During Antidumping and Countervailing Duty Proceedings, 78 FR 42678 (July 17, 2013) (“Final Rule”); see also frequently asked questions regarding the Final Rule, available at http://enforcement.trade.gov/tlei/notices/factual_info_final_rule_FAQ_07172013.pdf.

Notification to Interested Parties

Interested parties must submit applications for disclosure under APO in accordance with 19 CFR 351.305. On January 22, 2008, Commerce published Antidumping and Countervailing Duty Proceedings: Documents Submission Procedures; APO Procedures, 73 FR 3634 (January 22, 2008). Parties wishing to participate in these investigations should ensure that they meet the requirements of these procedures (e.g., the filing of letters of appearance as discussed at 19 CFR 351.103(d)).

This notice is issued and published pursuant to sections 702 and 777(i) of the Act and 19 CFR 351.203(c).

Dated: March 13, 2019.
Gary Taverman,
Deputy Assistant Secretary for Antidumping and Countervailing Duty Operations, performing the non-exclusive functions and duties of the Assistant Secretary for Enforcement and Compliance.

Appendix

Scope of the Investigations

The merchandise covered by the scope of these investigations is carbon and alloy steel threaded rod. Steel threaded rod is certain threaded rod, bar, or studs, of carbon or alloy steel, having a solid, circular cross section of any diameter, in any straight length. Steel threaded rod is normally drawn, cold-rolled, threaded, and straightened, or it may be hot-rolled. In addition, the steel threaded rod, bar, or studs subject to these investigations are non-headed and threaded along greater than 25 percent of their total actual length. A variety of finishes or coatings, such as plain oil finish as a temporary rust protectant, zinc coating (i.e., galvanized, whether by electroplating or hot-dipping), paint, and other similar finishes and coatings, may be applied to the merchandise.

Steel threaded rod is normally produced to American Society for Testing and Materials (ASTM) specifications ASTM A36, ASTM A193 B7/B7m, ASTM A193 B16, ASTM A307, ASTM A329 L7/L7M, ASTM A320 L43, ASTM A354 BC and BD, ASTM A449, ASTM F1554-36, ASTM F1554-55, ASTM F1554 Grade 105, American Society of Mechanical Engineers (ASME) specification ASME B18.31.3, and American Petroleum Institute (API) specification API 20E. All steel threaded rod meeting the physical description set forth above is covered by the scope of these investigations, whether or not produced according to a particular standard.

Subject merchandise includes material matching the above description that has been finished, assembled, or packaged in a third country, including by cutting, chamfering, coating, or painting the threaded rod, by attaching the threaded rod to, or packaging it with, another product, or any other finishing, assembly, or packaging operation that would not otherwise remove the merchandise from the scope of the investigations if performed in the country of manufacture of the threaded rod.

Carbon and alloy steel threaded rod are also included in the scope of these investigations whether or not imported attached to, or in conjunction with, other parts and accessories such as nuts and washers. If carbon and alloy steel threaded rod are imported attached to, or in conjunction with, such non-subject merchandise, only the threaded rod is included in the scope.

Excluded from the scope of these investigations are: (1) Threaded rod, bar, or studs which are threaded only on one or both ends and the threading covers 25 percent or less of the total actual length; and (2) stainless steel threaded rod, defined as steel threaded rod containing, by weight, 1.2 percent or less of carbon and 10.5 percent or more of chromium, with our without other elements.

Excluded from the scope of the antidumping investigation on steel threaded rod from the People's Republic of China is any merchandise covered by the existing antidumping order on Certain Steel Threaded Rod from the People's Republic of China. See Certain Steel Threaded Rod from the People's Republic of China: Notice of Antidumping Duty Order, 74 FR 17154 (April 14, 2009).

Steel threaded rod is currently classifiable under subheadings 7318.15.5051, 7318.15.5056, and 7318.15.5090 of the Harmonized Tariff Schedule of the United States (HTSUS). Subject merchandise may also enter under subheading 7318.15.2095 and 7318.19.0000 of the HTSUS. The HTSUS subheadings are provided for convenience and U.S. Customs purposes only. The written description of the scope is dispositive.

[FR Doc. 2019-05138 Filed 3-18-19; 8:45 am]

BILLING CODE 3510-DS-P